FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the mandatory Government-Administered, General-Use Prepaid Card Issuer Survey (FR 3063a; OMB No. 7100-0343) and the voluntary Government-Administered, General-Use Prepaid Card Government Survey (FR 3063b; OMB No. 7100-0343).

On June 15, 1984, the Office of Management and Budget (OMB) delegated to the Board authority under the Paperwork Reduction Act (PRA) to approve of and assign OMB control numbers to collection of information requests and requirements conducted or sponsored by the Board. Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Nuha Elmaghrabi—Office of the Chief Data Officer, Board of Governors of the Federal Reserve System, Washington, DC 20551 (202) 452-3829. Telecommunications Device for the Deaf (TDD) users may contact (202) 263-4869, Board of Governors of the Federal Reserve System, Washington, DC 20551.

OMB Desk Officer—Shagufta Ahmed—Office of Information and Regulatory Affairs, Office of Management and Budget, New Executive Office Building, Room 10235, 725 17th Street NW., Washington, DC 20503 or by fax to (202) 395-6974.

Final Approval Under OMB Delegated Authority of the Extension for Three Years, Without Revision, of the Following Report

Report title: Government-Administered, General-Use Prepaid Card Surveys.

Agency form number: FR 3063a and FR 3063b.

OMB control number: 7100-0343.

Frequency: Annual.

Respondents: Issuers of government-administered, general-use prepaid cards (FR 3063a) and governments that administer general-use prepaid card programs (FR 3063b).

Estimated number of respondents: FR 3063a: 25; FR 3063b: 75.

Estimated average hours per response: FR 3063a: 25 hours; FR 3063b: 15 hours.

Estimated annual burden hours: FR 3063a: 625 hours; FR 3063b: 1,125 hours.

General Description of Report: The issuer survey (FR 3063a) collects data from issuers of government-administered, general-use prepaid cards including card program information, cards outstanding, card funding, ATM transactions, purchase transactions, fees paid by issuers to third parties, interchange fees, and cardholder fees. The issuer survey (FR 3063a) is mandatory.

The government survey (FR 3063b) collects data from state governments, the District of Columbia, and U.S. territories (collectively, state governments), and municipal government offices located within the United States (local government offices) that administer general-use prepaid card payment programs.¹ Data collected from government offices include program information, the number of cards outstanding, and funding information. The government survey (FR 3063b) is voluntary.

¹ The issuer and government surveys request information on all federal, state, or local government-administered payment programs that provide a general-use prepaid card (or other debit card) disbursement option to payment recipients. The government survey may be distributed to federal government agencies in addition to state and local governments, but collections of information from federal government agencies are not subject to the Paperwork Reduction Act and, thus, are not included in this discussion.

U.S. territories include American Samoa, Guam, Midway Islands, Northern Mariana Islands, Puerto Rico, and U.S. Virgin Islands.

The Board uses data from these surveys to support an annual report to the Congress on the prevalence of use of general-use prepaid cards in federal, state, and local government-administered payment programs and on the interchange and cardholder fees charged with respect to such use of such cards.

Legal authorization and confidentiality: The Board's Legal Division has determined that both the issuer survey and the government survey are authorized by subsection 920(a) of the Electronic Fund Transfer Act, which was amended by section 1075(a) of the Dodd-Frank Act (15 U.S.C. 1693o-2). This subsection requires the Board to submit an annual report to Congress on the prevalence of the use of general-use prepaid cards in Federal, State or local government-administered payment programs and the interchange transaction fees and card-holder fees charged with respect to the use of such general-use prepaid cards (15 U.S.C. 1693o-2(a)(7)(D)). It also provides the Board with authority to require issuers to provide information to enable the Board to carry out the provisions of the subsection (15 U.S.C. 1693o-2(a)(3)(B)). The obligation of issuers to respond to the issuer survey (FR 3063a) is mandatory. However, the obligation of state governments and local government offices to respond to the government survey (FR 3063b) is voluntary. All of the information collected on the government survey and a limited amount of information collected on the issuer survey is publicly available, and thus, is not accorded confidential treatment. However, most of the information collected on the issuer survey is not publicly available and may be kept confidential under exemption (b)(4) of the Freedom of Information Act (FOIA), which exempts from disclosure “trade secrets and commercial or financial information obtained from a person and privileged or confidential” (5 U.S.C. 552(b)(4)). Such data may be kept confidential under exemption 4 if the release of data would cause substantial harm to the competitive position of the issuer. For example, certain issuer survey responses would likely contain information related to an organization's revenue structure and other proprietary and commercial information and the release of such information would cause substantial harm to the competitive position of the issuer.

Current actions: On June 5, 2017, the Board published a notice in the Federal Register (82 FR 25801) requesting public comment for 60 days on the proposal to extend, without revision, the FR 3063a and FR 3063b. The comment period for this notice expired on August 4, 2017. The Board did not receive any comments. The information collection will be extended as proposed.

Board of Governors of the Federal Reserve System, September 1, 2017.
Ann E. Misback,
Secretary of the Board.

[FR Doc. 2017-18957 Filed 9-6-17; 8:45 am]

BILLING CODE 6210-01-P